FEDERAL COMMUNICATIONS COMMISSION

47 CFR Part 73

[DA 04-3705; MB Docket No. 04-220, RM-10861]

Radio Broadcasting Services; Clayton and Raton, NM

AGENCY: Federal Communications Commission.

ACTION: Final rule.

SUMMARY: The Audio Division, at the request of Clayton Community Broadcasters, allots Channel 248C1 to Clayton, New Mexico, as its second FM commercial aural broadcast service. See 69 FR 35563, June 25, 2004. To accommodate the Clayton allotment, we are deleting Channel 248C1 at Raton, New Mexico because there was no expression of interest in the allotment. Channel 248C1 can be allotted to Clayton in compliance with the Commission's spacing requirements without a site restriction at coordinates 36-27-00 NL and 103-10-54 WL. A filing window for Channel 248C1 at Clayton, New Mexico, will not be opened at this time. Instead, the issue of opening a filing window for this channel will be addressed by the Commission in a subsequent order.

DATES: Effective January 18, 2005.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 04-220, adopted December 1, 2004, and released December 3, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under New Mexico, is amended by adding Channel 248C1 at Clayton and by removing Channel 248C1 at Raton.

Federal Communications Commission.
John A. Karousos,
Assistant Chief, Audio Division, Media Bureau.

[FR Doc. 04-27798 Filed 12-17-04; 8:45 am]

BILLING CODE 6712-01-P